DEPARTMENT OF JUSTICE

Notice of Lodging of Proposed Consent Decree Under the Clean Water Act

On Monday, June 23, 2014, the Department of Justice lodged a proposed Consent Decree with the United States District Court for the District of Utah (Central Division) in the lawsuit entitled United States v. Ivory Homes, Ltd., Civil Action No. 2:14-cv-00460-BCW. To settle the claims against it under the Clean Water Act (“CWA”), Ivory Homes, Ltd. (“Ivory Homes”) will pay a civil penalty of $250,000, and perform injunctive relief in the form of implementing a management and reporting system designed to provide increased oversight of on-the-ground operations and ensure greater compliance with the CWA. In return, the United States will grant Ivory Homes a covenant not to sue or take administrative action pursuant to the CWA for the civil violations alleged in the Complaint, filed simultaneously with the Consent Decree.

The case was brought under Section 402 of the CWA, 33 U.S.C. 1342, against Ivory Homes for violations of applicable permits governing discharge of storm water from five construction sites in Utah. The Complaint alleges that, at each of these five sites, Ivory Homes failed to comply with the terms and conditions of a general permit issued under Section 402 of the CWA, 33 U.S.C. 1342, which establishes conditions for discharge of storm water associated with construction activities, including clearing, grading and excavating, into waters of the State of Utah.

The publication of this notice opens a period for public comment on the Consent Decree. Comments should be addressed to the Assistant Attorney General, Environment and Natural Resources Division, and should refer to United States v. Ivory Homes, Ltd., D.J. Ref. No. 90-5-1-1-09865. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $18.75 (25 cents per page reproduction cost) payable to the United States Treasury.

Robert Brook,
Assistant Section Chief, Environmental Enforcement Section, Environment and Natural Resources Division.

[FR Doc. 2014-15128 Filed 6-27-14; 8:45 am]

BILLING CODE 4410-15-P